ENVIRONMENTAL PROTECTION AGENCY

40 CFR Part 300

[FRL-7625-8]

National Oil and Hazardous Substances Pollution Contingency Plan; National Priorities List

AGENCY: Environmental Protection Agency.

ACTION: Notice of intent to delete the Combe Fill North Landfill Superfund Site from the National Priorities List.

SUMMARY: The Environmental Protection Agency (EPA), Region 2, is issuing a Notice of Intent to Delete the Combe Fill North Landfill Superfund Site (Site) from the National Priorities List (NPL) and requests public comment on this action. The Combe Fill North Landfill Site is located in Mount Olive Township, Morris County, New Jersey. The NPL is Appendix B of the National Oil and Hazardous Substances Pollution Contingency Plan (NCP), 40 CFR part 300, which EPA promulgated pursuant to Section 105 of the Comprehensive Environmental Response, Compensation, and Liability Act of 1980 (CERCLA), as amended. EPA and the State of New Jersey, through the Department of Environmental Protection (NJDEP), have determined that all appropriate remedial actions have been completed and no further fund-financed remedial actions are required. In addition, EPA and NJDEP have determined that the Site is protective of public health and the environment.

DATES: Comments concerning the deletion of this site from the NPL must be received March 25, 2004.

ADDRESSES: Comments should be submitted to: Ms. Pamela J. Baxter, Remedial Project Manager, New Jersey Remediation Branch, Emergency and Remedial Response Division, U.S. Environmental Protection Agency, Region 2, 290 Broadway, 19th Floor, New York, New York 10007-1866.

Comprehensive information on the Site is available for viewing, by appointment only, at: U.S. EPA Records Center, 290 Broadway—18th Floor, New York, New York 10007-1866, hours: 9 a.m. to 5 p.m.—Monday through Friday. Contact the Records Center at (212) 637-4308.

Information on the Site is also available for viewing at the Information Repository located at: Mount Olive Public Library, Wolfe Road, Budd Lake, New Jersey 07828, (973) 681-8686.

FOR FURTHER INFORMATION CONTACT: Ms. Baxter, at the address provided above, or by telephone at (212) 637-4416; fax: (212) 637-4393 or via e-mail at baxter.pam@epa.gov

SUPPLEMENTARY INFORMATION:

Table of Contents

I. Introduction

II. NPL Deletion Criteria

III. Deletion Procedures

IV. Basis for Intended Site Deletion

I. Introduction

EPA Region 2 announces its intent to delete the Combe Fill North Landfill Superfund Site (Site) from the National Priorities List (NPL) and requests public comment on this action. EPA maintains the NPL as the list of sites that present a significant risk to public health or the environment. Sites on the NPL may be the subject of remedial actions financed by the Hazardous Substance Superfund (Fund).

EPA will accept comments on the proposal to delete this Site for thirty (30) days after publication of this document in the Federal Register.

Section II below explains the criteria for deleting sites from the NPL. Section III discusses the procedures that EPA is using for this action. Section IV discusses how this site meets NPL deletion criteria.

II. NPL Deletion Criteria

Section 300.425(e) of the NCP provides that sites may be deleted from the NPL where no further response is appropriate. In making this determination, EPA, in consultation with the State, will consider whether any of the following criteria have been met:

(i) Responsible parties or other persons have implemented all appropriate response actions required;

(ii) All appropriate Fund-financed response under CERCLA has been implemented, and no further response action by responsible parties is appropriate; or

(iii) The remedial investigation has shown that the release poses no significant threat to public health or the environment and, therefore, taking of remedial measures is not appropriate.

III. Deletion Procedures

The following procedures apply to the deletion of this Site: (1) EPA issued a Record of Decision (ROD) on September 29, 1986, which selected a long-term remedy to address landfill containment. (2) All appropriate responses under CERCLA have been implemented as described in a Final Close-Out Report dated April 27, 1993. (3) The NJDEP concurs with the proposed deletion. (4) A Five-Year Review was conducted in September 1999, and determined that the remedy continues to be protective of public health and the environment. (5) A notice has been published in the local newspaper and has been distributed to appropriate federal, state and local officials and other interested parties announcing a 30-day public comment period on EPA's Notice of Intent to Delete. (6) All relevant documents have been made available for public review at the local Site information repository and at EPA Region 2.

EPA's Regional Office will evaluate public comments before making a final decision on deletion. If necessary, EPA will prepare a Responsiveness Summary to address significant public comments received during the public comment period. If after consideration of the comments received, EPA decides to proceed with the deletion, EPA will place a final Notice of Deletion in the Federal Register. Generally, the NPL will reflect deletions in the final update following the notice.

IV. Basis for Intended Site Deletion

The following summary provides the Agency's rationale for the proposal to delete this Site from the NPL.

Background

The Combe Fill North Landfill Site comprises 65 acres and was operated as a sanitary municipal landfill from 1966 to 1978 by Morris County Landfill Incorporated. The Landfill accepted municipal, vegetated, and industrial (non-chemical) wastes, along with minimal amounts of dry sewage sludge.

In September 1978, ownership was transferred to the Combe Fill Corporation which operated the landfill until January 1981 when the New Jersey Department of Environmental Protection (NJDEP) denied an expansion request and operations ceased. Proper closure procedures were not implemented because Combe Fill Corporation filed for bankruptcy in September 1981. The Site was added to the NPL in December 1982.

On November 21, 1983, NJDEP signed a Cooperative Agreement with EPA for an RI/FS at the Site. Low concentrations of hazardous substances were found at the Site during RI activities. A public meeting to present and discuss the results of the RI/FS and the recommended alternative was held on July 16, 1986. A ROD was signed by EPA on September 29, 1986 which selected the long-term solution for the Combe Fill North Landfill. The main components of the remedy consisted of grading and compacting the 65-acre waste disposal area; covering with one foot of common borrow material; capping with one foot of clay; covering with sufficient common borrow material to ensure the clay cap is below the average frost penetration depth; covering with 6 inches of topsoil; planting vegetated cover (grass seeding); installing a drainage system; installing a methane venting system; constructing a security fence surrounding the site and implementing a quarterly ground water and surface water monitoring program.

Response Actions

The design of the remedy was completed by April 25, 1989 and the remedy was constructed by June 1991. Construction activities were performed in accordance with the approved design and consisted of the work described in the ROD. The work for the Site is described in an April 27, 1993 Remediation Close Out Report.

Operation and Maintenance

NJDEP is responsible for conducting operation and maintenance activities. Activities include mowing the grass on the landfill, visually inspecting the cap and runoff drainage channels, clearing vegetation from the drainage channels, and performing sampling and analysis for the long-term monitoring program.

The monitoring plan requires the monitoring of groundwater and air. Groundwater samples are collected quarterly from 13 monitoring wells (2 upgradient and 11 downgradient) and sampled for Target Compound List of analytes. Air monitoring is conducted quarterly on the gas vents.

Five-Year Review

EPA conducted a Five-Year Review in September 1999. EPA's review determined that the remedy was implemented in accordance with the remedy selected in the ROD and the remedy in the ROD is protective of human health and the environment. However, hazardous substances, pollutants, or contaminants are remaining at the Site. Consequently, a five-year review will be conducted at this site no less often than every five years. The next five-year review will be conducted before the end of September 2004.

Applicable Deletion Criteria/Statue Concurrence

All the completion requirements for this Site have been met as described in the Remediation Close Out Report dated April 27, 1993. EPA is proposing deletion of this Site from the NPL. Documents supporting this action are available in the site files. The State of New Jersey, in its letter of July 3, 2003, concurred on the proposed deletion of this Site from the NPL.

Public participation activities for the Combe Fill North Site have been satisfied as required in CERCLA section 113(k), 42 U.S.C. 9613(k), and section 117, 42 U.S.C. 9617. The RI/FS and the ROD were subject to a public review process. All other documents and information which EPA relied on or considered in recommending that the Site be deleted from the NPL are available for the public to review at the information repositories.

The NCP specifies that EPA may delete a site from the NPL if “all appropriate Fund-financed response under CERCLA has been implemented, and no further response action by responsible parties is appropriate.” 40 CFR 300.425(e)(1)(ii). EPA, with the concurrence of the State of New Jersey, through the Department of Environmental Protection, believes that this criterion for deletion has been met. Consequently, EPA is proposing deletion of this Site from the NPL.

Dated: February 9, 2004.
Jane M. Kenny,
Regional Administrator, Region 2.

[FR Doc. 04-3824 Filed 2-23-04; 8:45 am]

BILLING CODE 6560-50-P